NATIONAL ARCHIVES AND RECORDS ADMINISTRATION

Office of Government Information Services

[NARA-2018-061]

Chief FOIA Officers Council Meeting

AGENCY: Office of Government Information Services (OGIS), National Archives and Records Administration (NARA).

ACTION: Notice of Chief FOIA Officers Council meeting.

SUMMARY: OGIS and the Office of Information Policy (OIP), U.S. Department of Justice, announce a second 2018 meeting of the Chief FOIA Officers Council.

DATES: The meeting will be Thursday, October 4, 2018, from 10:00 a.m. to 12 p.m. EDT. Please register for the meeting no later than October 2, at 5:00 p.m. EDT (registration information below).

Location: National Archives and Records Administration (NARA); 700 Pennsylvania Avenue NW; William G. McGowan Theater; Washington, DC 20408.

FOR FURTHER INFORMATION CONTACT: Martha Murphy, by mail at National Archives and Records Administration; Office of Government Information Services; 8601 Adelphi Road—OGIS; College Park, MD 20740-6001, by telephone at 202-741-5772, or by email at martha.murphy@nara.gov, with the subject line “Chief FOIA Officers Council.” To request additional accommodations (e.g., a transcript), email ogis@nara.gov or call 202-741-5770.

SUPPLEMENTARY INFORMATION: This meeting is open to the public in accordance with the Freedom of Information Act (5 U.S.C. 552(k)). The Chief FOIA Officers Council is co-chaired by the Directors of OIP and OGIS. Among the purposes of the Chief FOIA Officers Council is developing recommendations to increase compliance and efficiency and sharing best practices and innovative approaches. Additional details about the meeting are available on OGIS's website at https://archives.gov/ogis/about-ogis/Chief-FOIA-Officers-Council and OIP's website at https://www.justice.gov/oip/chief-foia-officers-council.

Procedures: Due to security requirements, you must register in advance if you wish to attend the meeting. You will also go through security screening when you enter the building. To register for the meeting, please do so at the following Eventbrite link: https://www.eventbrite.com/e/chief-foia-officers-council-meeting-100418-tickets-49346272028.

We will also live-stream this program on the U.S. National Archives' YouTube channel, at https://www.youtube.com/user/usnationalarchives/. The webcast will include a captioning option.

Members of the media who wish to register, those who are unable to register online, and those who require special accommodations, should contact Martha Murphy at the phone number, mailing address, or email address listed above.

Alina M. Semo,
Director, Office of Government Information Services.

[FR Doc. 2018-20746 Filed 9-24-18; 8:45 am]

BILLING CODE 7515-01-P